DEPARTMENT OF HEALTH AND HUMAN SERVICES

Centers for Disease Control and Prevention

Disease, Disability, and Injury Prevention and Control Special Emphasis Panel (SEP): Initial Review

The meeting announced below concerns Health Promotion and Disease Prevention Research Centers: Special Interest Project Competitive Supplements (SIPS), DP16-006, initial review.

Summary: This document corrects a notice that was published in the Federal Register on April 21, 2016, Volume 81, Number 77, page 23497. This meeting is cancelled in its entirety.

Contact Person for More Information: Brenda Colley Gilbert, Ph.D., M.S.P.H., Director, Extramural Research Program Operations and Services, CDC, 4770 Buford Highway NE., Mailstop F-80, Atlanta, Georgia 30341, Telephone: (770) 488-6295, BJC4@cdc.gov.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office Centers for Disease Control and Prevention.

[FR Doc. 2016-10422 Filed 5-3-16; 8:45 am]

BILLING CODE 4163-18-P